DEPARTMENT OF LABOR

Employment and Training Administration

[TA-W-52,968]

Snap-On Tools Manufacturing Company, Kenosha, WI; Notice of Termination of Investigation

Pursuant to section 221 of the Trade Act of 1974, as amended, an investigation was initiated on September 25, 2003 in response to a petition filed by a company official on behalf of workers of Snap-on Tools Manufacturing Company, Kenosha, Wisconsin.

The petitioner has requested that the petition be withdrawn. Consequently, the investigation has been terminated.

Signed at Washington, DC this 29th day of October 2003.
Linda G. Poole,
Certifying Officer, Division of Trade Adjustment Assistance.

[FR Doc. 03-29282 Filed 11-21-03; 8:45 am]

BILLING CODE 4510-30-P